SMALL BUSINESS ADMINISTRATION

[Delegation of Authority No. 23-C, Revision 4]

Inspector General; Delegation of Authority and Line of Succession

Delegation of authority No. 23-C is hereby revised to effect a delegation of authority and provide a line of succession from the Inspector General as follows:

I. Pursuant to authority vested in me by the Inspector General Act of 1978, as amended, in the event of the death, disability, absence, resignation, or removal of the Inspector General, Small Business Administration, the officials designated below, in the order indicated, and in the absence of the specific designation of another official in writing by the Inspector General or the Acting Inspector General, are hereby authorized to and shall serve as Acting Inspector General. The designated officials shall perform the duties and are delegated the full authority and power ascribed to the Inspector General by law and regulation as well as those authorities delegated to the Inspector General by the Administrator, Small Business Administration:

1. Deputy Inspector General

2. Counsel to the Inspector General

3. Assistant Inspector General for Auditing

4. Assistant Inspector General for Investigations

5. Assistant Inspector General for Inspection and Evaluation

6. Assistant Inspector General for Management and Policy

II. Anyone designated by the Inspector General as acting in one of the positions listed above remains in the line of succession; otherwise, the authority moves to the next position.

III. This delegation is not in derogation of any authority residing in the above officials relating to the operations of their respective programs, nor does it affect the validity of any delegations currently in force and effect and not specifically cited as revoked or revised herein.

IV. The authorities delegated herein may not be redelegated.

Dated: January 3, 2001.
Phyllis K. Fong,
Inspector General.

[FR Doc. 01-904 Filed 1-10-01; 8:45 am]

BILLING CODE 8025-01-P